POSTAL SERVICE

International Product Change—Global Expedited Package Services—Non-Published Rates

AGENCY: Postal Service™.

ACTION: Notice.

SUMMARY: The Postal Service gives notice of filing a request with the Postal Regulatory Commission to add Global Expedited Package Services—Non-Published Rates 12 (GEPS-NPR 12) to the Competitive Products List.

DATES: Effective date: April 7, 2017.

FOR FURTHER INFORMATION CONTACT: Christopher C. Meyerson, 202-268-7820.

SUPPLEMENTARY INFORMATION: The United States Postal Service® hereby gives notice that, pursuant to 39 U.S.C. 3642, on March 31, 2017, it filed with the Postal Regulatory Commission a Request of the United States Postal Service to add Global Expedited Package Services—Non-Published Rates 12 (GEPS-NPR 12) to the Competitive Products List, and Notice of Filing GEPS-NPR 12 Model Contract and Application for Non-Public Treatment of Materials Filed Under Seal. Documents are available at www.prc.gov, Docket Nos. MC2017-105 and CP2017-152.

Stanley F. Mires,
Attorney, Federal Compliance.

[FR Doc. 2017-06915 Filed 4-6-17; 8:45 am]

BILLING CODE 7710-12-P